NATIONAL AERONAUTICS AND SPACE ADMINISTRATION

[Notice: (11-101)]

NASA Advisory Council; Audit, Finance, and Analysis Committee Meeting

AGENCY: National Aeronautics and Space Administration.

ACTION: Notice of meeting change of location.

Reference: Federal Register/Vol. 76, No. 200, Monday, October 17, 2011 (Notice 11-096, 64112).

SUMMARY: In accordance with the Federal Advisory Committee Act, Public Law 92-463, as amended, the National Aeronautics and Space Administration (NASA) announces that the meeting of the Audit, Finance and Analysis Committee of the NASA Advisory Council scheduled to be held at NASA Goddard Space Flight Center in Greenbelt, Maryland, on November 1-2, 2011, has been moved to a new location. It will now be held as follows: NASA Headquarters, Room 8D48, 300 E Street, SW., Washington, DC 20546, Tuesday, November 1, 2011, 2:00-5:15 p.m. and Wednesday, November 2, 2011, 9:00-9:55 a.m., Local Time.

FOR FURTHER INFORMATION CONTACT: Ms. Charlene Williams, Office of the Chief Financial Officer, NASA Headquarters, Washington, DC 20546, Phone: 202-358-2183.

SUPPLEMENTARY INFORMATION: The meeting will be open to the public up to the seating capacity of the room. Visitors will need to show a valid picture identification such as a driver's license to enter the NASA Headquarters building (West Lobby—Visitor Control Center), and must state that they are attending the Audit, Finance, and Analysis Committee meeting in room 8D48 before receiving an access badge. All non-U.S. citizens must fax a copy of their passport, and print or type their name, current address, citizenship, company affiliation (if applicable) to include address, telephone number, and their title, place of birth, date of birth, U.S. visa information to include type, number, and expiration date, U.S. Social Security Number (if applicable), and place and date of entry into the U.S., fax to Charlene Williams, Executive Secretary, Audit, Finance, and Analysis Committee, FAX (202) 358-4336, by no later than October 27, 2011.

Dated: October 18, 2011.
P. Diane Rausch,
Advisory Committee Management Officer, National Aeronautics and Space Administration.

[FR Doc. 2011-27329 Filed 10-20-11; 8:45 am]

BILLING CODE 7510-13-P